DEPARTMENT OF JUSTICE

Notice of Lodging of Consent Decree Pursuant to the Clean Water Act

In accordance with 28 CFR 50.7, notice is hereby given that on April 3, 2002 a proposed consent decree in United States v. MEC Oregon Racing, Inc. et al., Civil Action No. 02-CV-433-HA, was lodged with the United States District Court for the District of Oregon.

In this action, which concerned the Portland Meadows race track complex located in Portland, Oregon, the United States alleged that MEC Oregon Racing, Inc., Thomas Moyer, and Portland Meadows Management, LLC, discharged and may continue to discharge wastewater and other pollutants from the stable and practice track areas, without authorization by a National Pollutant Discharge Elimination System (“NPDES”) permit, in violation of the Clean Water Act. The consent decree requires Defendant Moyer to pay a $100,000 penalty and requires all Defendants, among other things, to (i) remove all horses from the complex and prevent their return until routing of process wastewater to a sanitary sewer is complete, (ii) immediately institute Best Management Practices to reduce discharge of process wastewater, (iii) pay stipulated penalties for any direct discharges of process wastewater occurring on or after February 15, 2002, (iv) apply for an NPDES permit, and (v) cease all unpermitted discharges by April 30, 2005.

The Department of Justice will receive, for a period of thirty (30) days from the date of this publication, comments on the proposed consent decree. Comments should be addressed to the Assistant Attorney General for the Environment and Natural Resources Division, P.O. Box 7611, U.S. Department of Justice, Washington, DC 20044-7611, and should refer to United States v. MEC Oregon Racing, Inc. et al., Civil Action No. 02-CV-433-HA, DOJ No. 90-5-1-1-06954/1.

The proposed consent decree may be examined at the office of the United States Attorney, 1000 S.W. Third Avenue, Suite 600, Portland, Oregon 97204, and may also be obtained by mail from the Consent Decree Library, P.O. Box 7611, U.S. Department of Justice, Washington, DC 20044-7611. To request a copy of the proposed consent decree by mail, please refer to United States v. MEC Oregon Racing, Inc. et al., Civil Action No. 02-CV-433-HA, DOJ No. 90-5-1-1-06954/1, and enclose a check for the amount of $9.00 (25 cents per page reproduction cost) payable to the Consent Decree Library.

Robert E. Maher, Jr.,
Chief, Environmental Enforcement Section, Environment and Natural Resources Division.

[FR Doc. 02-10817 Filed 5-1-02; 8:45 am]

BILLING CODE 4410-15-M